FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than August 8, 2024.

A. Federal Reserve Bank of Atlanta (Erien O. Terry, Assistant Vice President) 1000 Peachtree Street NE, Atlanta, Georgia 30309. Comments can also be sent electronically to Applications.Comments@atl.frb.org:

1. John Adam Robertson; Aaron Andrew Robertson; the Edwin G. Robertson Children's Irrevocable Trust, John Adam Robertson, Trustee; and the Craig E. Robertson Children's Irrevocable Trust, Aaron Andrew Robertson, Trustee, all of Speedwell, Tennessee; Emily Alayne King, Powell, Tennessee; Erica Leigh Corum, Harrogate, Tennessee; Matthew Craig Robertson, Tazewell, Tennessee; and Dakota John Robertson Bristol, Tennessee; as a group acting in concert, to retain voting shares of Robertson Holding Company, L.P., Harrogate, Tennessee. Robertson Holding Company, L.P., controls Commercial Bancgroup, Inc., which controls Commercial Bank, both of Harrogate, Tennessee.

In addition, Aaron Andrew Robertson; Cynthia Diane Robertson; James Oscar Robertson; John Adam Robertson, all of Speedwell, Tennessee; Sherri Jo Robertson and Noah Bradley Robertson, both of Harrogate, Tennessee; Dakota John Robertson, Bristol, Tennessee; Judith Yvonne Robertson, Cumberland Gap, Tennessee; Matthew Craig Robertson and Matthew Craig Robertson II, both of Tazewell, Tennessee; Olivia Grace Robertson, Hanahan, South Carolina; Emily Alayne King; Halle McLayne King; John McKinley King; and Riley Parker King, all of Powell, Tennessee; as a group acting in concert with Robertson Holding Company, L.P., to retain voting shares of Commercial Bancgroup, Inc.

B. Federal Reserve Bank of Richmond (Brent B. Hassell, Assistant Vice President) P.O. Box 27622, Richmond, Virginia 23261. Comments can also be sent electronically to Comments.applications@rich.frb.org:

1. Barry J. Renbaum, Carol E. Renbaum, both individually and of Reisterstown, Maryland, Bryan M. Renbaum, individually, Frederick, Maryland; to form the Renbaum Family Control Group, a group acting in concert, to acquire voting shares of Farmers and Merchants Bancshares, Inc., Hampstead, Maryland, and thereby indirectly acquire voting shares of Farmers and Merchants Bank, Upperco, Maryland.

Board of Governors of the Federal Reserve System.
Michele Taylor Fennell,
Deputy Associate Secretary of the Board.

[FR Doc. 2024-16265 Filed 7-23-24; 8:45 am]

BILLING CODE P